DEPARTMENT OF TRANSPORTATION

Federal Aviation Administration

Notice of Opportunity for Public Comment on Surplus Property Release at Lee Gilmer Memorial Airport, Gainesville, GA

AGENCY: Federal Aviation Administration (FAA), DOT.

ACTION: Notice.

SUMMARY: Under the provisions of Title 49, U.S.C. Section 47153(c), notice is being given that the FAA is considering a request from the City of Gainesville to waive the requirement that a 0.75-acre parcel of surplus property, located at the Lee Gilmer Memorial Airport, be used for aeronautical purposes.

DATES: Comments must be received on or before October 24, 2001.

ADDRESSES: Comments on this notice may be mailed or delivered in triplicate to the FAA at the following address: Atlanta Airports District Office, Campus Building, 1701 Columbia Avenue, Suite 2-260, College Park, Georgia 30337-2747.

In addition, one copy of any comments submitted to the FAA must be mailed or delivered to Mr. J. Carlyle Cox, City Manager, City of Gainesville at the following address: Post Office Box 2496, Gainesville, Georgia 30503-2496.

FOR FURTHER INFORMATION CONTACT: E.C. Hunnicutt, Program Manager, Atlanta Airports District Office, Campus Building, 1701 Columbia Avenue, Suite 2-260, College Park, Georgia 30337-2747, 404/305-7145. The application may be reviewed in person at this same location.

SUPPLEMENTARY INFORMATION: The FAA is reviewing a request by the City of Gainesville, Georgia to release 0.75 acres of surplus property at the Lee Gilmer Memorial Airport. The property will be purchased by Mr. Carl T. Whitehead for access to a warehouse facility. The property is located on Short Street approximately 1000 feet south of Ridge Road near the intersection of Queen City Parkway. The net proceeds from the sale of this property will be used for airport purposes.

Any person may inspect the request in person at the FAA office listed above under FOR FURTHER INFORMATION CONTACT. In addition, any person may, upon request, inspect the request, notice and other documents germane to the request in person at the Gainesville City Manager's Office.

Issued in Atlanta, Georgia, September 4, 2001.
Scott L. Seritt,
Manager, Atlanta Airports District Office, Southern Region.

[FR Doc. 01-23783 Filed 9-21-01; 8:45 am]

BILLING CODE 4910-13-M